MEDICARE PAYMENT ADVISORY COMMISSION

Commission Meeting

AGENCY: Medicare Payment Advisory Commission.

ACTION: Notice of meeting.

SUMMARY: The Commission will hold its next public meeting on Thursday, April 24, 2003, and Friday, April 25, 2003, at the Ronald Reagan Building, International Trade Center, 1300 Pennsylvania Avenue, NW., Washington, DC. The meeting is tentatively scheduled to begin at 10 a.m. on April 24, and at 9 a.m. on April 25.

Topics for discussion include: Medicare payment for outpatient drugs under part B; volume of physician services and related physician payment issues; hospital financial performance; incentives to improve quality; use of market competition in fee-for-service Medicare; geographic variation; implications for beneficiaries and policy reform of market variation; long-term care hospital patient characteristics; examining differences between hospital-based and free-standing skilled nursing facilities; dialysis quality and cost; comments on CMS's social health maintenance organization demonstration report; and the impact of the GME cap on geriatricians.

Agendas will be e-mailed on April 16, 2003. The final agenda will be available on the Commission's Web site (www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller,
Executive Director.

[FR Doc. 03-9293 Filed 4-15-03; 8:45 am]

BILLING CODE 6820-BW-M